DEPARTMENT OF DEFENSE

Office of the Secretary

Membership of the Performance Review Board

AGENCY: Office of the Secretary of Defense (OSD), DoD.

ACTION: Notice of board membership.

SUMMARY: This notice announces the appointment of the Department of Defense, Fourth Estate, Performance Review Board (PRB) members, to include the Joint Staff, Defense Field Activities, the U.S Court of Appeals for the Armed Forces and the following Defense Agencies: Defense Advance Research Projects Agency, Defense Commissary Agency, Defense Contract Audit Agency, Defense Contract Management Agency, Defense Finance and Accounting Service, Defense Information Systems Agency, Defense Legal Services Agency, Defense Logistics Agency, Defense Security Cooperation Agency, Defense Threat Reduction Agency, Missile Defense Agency, and Pentagon Force Protection Agency. The publication of PRB membership is required by 5 U.S.C. 4314(c)(4).

The PRB shall provide fair and impartial review of Senior Executive Service and Senior Professional performance appraisals and make recommendations regarding performance ratings and performance awards to the Deputy Secretary of Defense.

DATES: Effective Date: August 7, 2013.

FOR FUTHER INFORMATION CONTACT: Michael L. Watson, Assistant Director for Executive and Political Personnel, Washington Headquarters Services, Office of the Secretary of Defense, (703) 693-8373.

SUPPLEMENTARY INFORMATION: In accordance with 5 U.S.C. 4314(c)(4), the following executives are appointed to the Office of the Secretary of Defense PRB with specific PRB panel assignments being made from this group. Executives listed will serve a one-year renewable term, effective August 7, 2013.

Office of the Secretary of Defense

Chairperson

Alan Shaffer.

PRB Panel Members
Aldwell, Anthony | McGrath, Elizabeth
Baker, James | McKenzie, Donald
Baker, Timothy | Middleton, Allen
Bennett, David | Mitchell, Pamela
Bliss, Gary | Morgan, Andrew
Breckenridge, Mark | Morgan, Nancy
DeSimone, Laura | O'Donnell, William
DiGiovanni, Frank | Patrick, Paul
Genaille, Richard | Peters, Thomas
Gonzalez, Jose | Poleo, Joseph
Haendel, Dan | Reheuser, Michael
Hollis, Caryn | Richardson, Sandra
Janicki Jr, Frederick | Rivera, Alfred
Knight, Edna | Rockey, Maryann
Knodell, James | Sayre, Richard
Koffsky, Paul | Schleien, Steven
Kosak, Charles | Stack, Alisa
Kozemchak, Paul | Teeple, Brian
Loverro, Douglas | Wilczynski, Brian
Maenle, Nathan | Zakriski, Jennifer
McDermott, David |

Dated: August 20, 2013.
Aaron Siegel,
Alternate OSD Federal Register Liaison Officer, Department of Defense.

[FR Doc. 2013-20596 Filed 8-22-13; 8:45 am]

BILLING CODE 5001-06-P